DEPARTMENT OF HOUSING AND URBAN DEVELOPMENT

[Docket No. FR-5117-N-23]

Notice of Submission of Proposed Information Collection to OMB; Civil Rights Front End and Limited Monitoring Review

AGENCY: Office of the Chief Information Officer, HUD.

ACTION: Notice.

SUMMARY: The proposed information collection requirement described below has been submitted to the Office of Management and Budget (OMB) for review, as required by the Paperwork Reduction Act. The Department is soliciting public comments on the subject proposal.

The Office of Public and Indian Housing (PIH) has developed 2 checklists to conduct civil rights monitoring reviews of 20 Public Housing Agencies (PHAs) in FY07, in support of HUD's strategic goal of ensuring equal opportunity in housing. PIH staff will complete checklist A (On-site Limited Review of Civil Rights-Related Program Requirements for Low Rent and Housing Choice Voucher Programs) during onsite comprehensive reviews. PHAs will complete checklist B (onsite Limited review of Section 504 Monitoring). The information collected will be used to evaluate a PHA's compliance with the Fair Housing Laws.

DATES: Comments Due Date: April 2, 2007.

ADDRESSES: Interested persons are invited to submit comments regarding this proposal. Comments should refer to the proposal by name and/or OMB Approval Number (2577-NEW) and should be sent to: HUD Desk Officer, Office of Management and Budget, New Executive Office Building, Washington, DC 20503; fax: 202-395-6974.

FOR FURTHER INFORMATION CONTACT: Lillian Deitzer, Departmental Reports Management Officer, QDAM, Department of Housing and Urban Development, 451 Seventh Street, SW., Washington, DC 20410; e-mail Lillian_L._Deitzer@HUD.gov or telephone (202) 708-2374. This is not a toll-free number. Copies of available documents submitted to OMB may be obtained from Ms. Deitzer or from HUD's Web site at http://www5.hud.gov:63001/po/i/icbts/collectionsearch.cfm.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Civil Rights Front End and Limited Monitoring Review.

OMB Approval Number: 2577-New.

Form Numbers: Hud-Pending.

Description of the Need for the Information and Its Proposed Use

PIH has developed 2 checklists to conduct civil rights monitoring reviews of 20 PHAs in FY07, in support of HUD's strategic goal of ensuring equal opportunity in housing. PIH staff will complete checklist A (On-site Limited Review of Civil Rights-Related Program Requirements for Low Rent and Housing Choice Voucher Programs) during onsite comprehensive reviews. Public Housing Agencies will complete checklist B (on-site Limited review of Section 504 Monitoring). The information collected will be used to evaluate a PHA's compliance with the Fair Housing Laws.

Frequency of Submission: On occasion, Annually.

| Number of respondents | Annual responses | × | Hours per response | = | Burden hours
Reporting Burden | 20 | 1 |  | 2 |  | 40

Total Estimated Burden Hours: 40

Status: New Collection.

Authority: Section 3507 of the Paperwork Reduction Act of 1995, 44 U.S.C. 35, as amended.

Dated: February 26, 2007.
Lillian L. Deitzer,
Departmental Paperwork Reduction Act Officer, Office of the Chief Information Officer.

[FR Doc. E7-3609 Filed 2-28-07; 8:45 am]

BILLING CODE 4210-67-P